DEPARTMENT OF JUSTICE

Antitrust Division

Notice Pursuant to the National Cooperative Research and Production Act of 1993—Information Warfare Research Project Consortium

Notice is hereby given that, on January 8, 2026, pursuant to section 6(a) of the National Cooperative Research and Production Act of 1993, 15 U.S.C. 4301 et seq. (“the Act”), Information Warfare Research Project Consortium (“IWRP Consortium”) has filed written notifications simultaneously with the Attorney General and the Federal Trade Commission disclosing changes in its membership. The notifications were filed for the purpose of extending the Act's provisions limiting the recovery of antitrust plaintiffs to actual damages under specified circumstances. Specifically, Technology Service Corp., Arlington, VA; West 4th Strategy LLC, McLean, VA; Softwarfare, LLC, Prairie Village, KS; Zaden Technologies, Inc., Huntsville, AL; Riverside Research Institute, Fairfax, VA; Edgerunner Ai, Inc., Bellevue, WA; Decryptor, Inc., Richardson, TX; Restored Cloud, Inc., Ithaca, NY; Pilot Systems International LLC, Farmington Hills, MI; Applied Research Solutions, Inc., Beavercreek, OH; Striveworks Inc., Austin, TX; Infusionpoints LLC, North Wilkesboro, NC; Apex Tk LLC, Tampa, FL; Cellularswap, LLC, Farmers Branch, TX; Zenithflow Inc., Fredericksburg, VA; Aerovironment, Inc., Simi Valley, CA; Ocean Aero, Inc., Gulfport, MS; TDI Novus, Inc., Philadelphia, PA; DataRobot, Inc., Boston, MA; S5 Analytics LLC, Centennial, CO; Cydaptiv Solutions Inc., Rockville, MD; Red Cedar USA, LLC, Arlington, VA; Talon Defense, Inc., Sarasota, FL; RJA Technologies LLC, New York, NY; DRS Advanced ISR LLC, Beavercreek, OH; Makai LLC, Hopkinton, MA; Leonardo Electronics US Inc., Huntsville, AL; EOTECH LLC, Plymouth, MI; Aforge LLC, Lorton, VA; Quoherent, Inc., Huntsville, AL; Pryzm Dynamics Inc., Boston, MA; and Kearney & Company, P.C., Alexandira, VA, have been added as parties to this venture.

Also, Nakupuna Solutions, LLC, Arlington, VA; Caci Azure Summit Technology, LLC, Fairfax, VA; Braetr Fp, LLC, Hanahan, SC; Broadleaf Services, Inc., Manassas, VA; Barbaricum LLC, Washington DC; Corellium, Inc., Delray Beach, FL; Morgan 6, LLC, Charleston, SC; Intelligent Decision Systems, Inc., Clifton, VA; Triple Crown Consulting LLC, Austin, TX; Universal Solutions International, Inc., Newport News, VA; Thermoai Inc., Alexandria, VA; Numerica Corp., Fort Collins, CO; Silicon Mountain Technologies, LLC, Lakewood, CO; Strategic Technical Services LLC, Carmel, IN; Sealing Technologies, LLC, Columbia, MD; Sabel Systems Technology Solutions, LLC, Beavercreek, OH; Mercury Systems Inc., Andover, MA; Royce Geospatial Consultants, LLC, Arlington, VA; Koam Engineering Systems, Inc., San Diego, CA; Tagup, Inc., Boston, MA; Concept Solutions LLC, Reston, VA; Cog Systems Inc., Hawthorn Woods, IL; Sextant Technologies LLC, Washington, DC; 8 Consulting LLC, Shenandoah, VA; Quiet Professionals, LLC, Tampa, FL; Vg It Services Inc., Ashburn, VA; W.S. Darley & Co., Itasca, IL; Alluvionic Inc., Melbourne, FL; Trinity Information Technology, LLC, Yardley, PA; Rebel Space Technologies Inc., Long Beach, CA; and Ciyis LLC, Atlanta, GA, have withdrawn as parties to this venture.

No other changes have been made in either the membership or planned activity of the group research project. Membership in this group research project remains open, and IWRP Consortium intends to file additional written notifications disclosing all changes in membership.

On October 15, 2018, IWRP Consortium filed its original notification pursuant to section 6(a) of the Act. The Department of Justice published a notice in the Federal Register pursuant to section 6(b) of the Act on October 23, 2018 (83 FR 53499).

The last notification was filed with the Department on October 7, 2025. A notice was published in the Federal Register pursuant to section 6(b) of the Act on January 2, 2026 (91 FR 163).

Suzanne Morris,
Deputy Director Civil Enforcement Operations, Antitrust Division.

[FR Doc. 2026-03572 Filed 2-20-26; 8:45 am]

BILLING CODE P